FEDERAL RESERVE SYSTEM

Change in Bank Control Notices; Formations of, Acquisitions by, and Mergers of Bank Holding Companies; Correction

This notice corrects a notice (FR Doc. 2012-23096) published on page 58141 of the issue for Wednesday, September 19, 2012.

Under the Federal Reserve Bank of St. Louis heading, the entry for Clayton B. Patrick, Frankfort, Kentucky, is revised to read as follows:

A. Federal Reserve Bank of St. Louis (Glenda Wilson, Community Affairs Officer) P.O. Box 442, St. Louis, Missouri 63166-2034:

1. Clayton B. Patrick, Frankfort, Kentucky; to acquire voting shares of American Founders Bancorp, Inc., and thereby indirectly acquire voting shares of American Founders Bank, Inc., both in Lexington, Kentucky.

Comments on this application must be received by October 2, 2012.

Board of Governors of the Federal Reserve System, September 20, 2012.
Michael J. Lewandowski,
Assistant Secretary of the Board.

[FR Doc. 2012-23584 Filed 9-25-12; 8:45 am]

BILLING CODE 6210-01-P